DEPARTMENT OF HEALTH AND HUMAN SERVICES

Food and Drug Administration

21 CFR Part 10

Administrative Practices and Procedures

CFR Correction

In Title 21 of the Code of Federal Regulations, parts 1 to 99, revised as of April 1, 2004, on page 123, § 10.50 is corrected by removing paragraph (c)(11).

[FR Doc. 04-55527 Filed 12-13-04; 8:45 am]

BILLING CODE 1505-01-D